DEPARTMENT OF HOUSING AND URBAN DEVELOPMENT

24 CFR Part 3500

[Docket No. FR-4727-N-01]

Real Estate Settlement Procedures Act (RESPA); Rule on Simplifying and Improving the Process of Obtaining Mortgages to Reduce Settlement Costs to Consumers: Target Publication Date of Final Rule

AGENCY: Office of the Assistant Secretary for Housing-Federal Housing Commissioner, HUD.

ACTION: Notice of target publication date of RESPA final rule.

SUMMARY: On July 29, 2002, HUD published its proposed rule on “RESPA; Simplifying and Improving the Process of Obtaining Mortgages to Reduce Settlement Costs to Consumers” (RESPA rule). This notice advises the public of HUD's anticipated publication date for the RESPA final rule.

FOR FURTHER INFORMATION CONTACT: Ivy Jackson, Acting Director, Office of RESPA and Interstate Land Sales, Room 9146, U.S. Department of Housing and Urban Development, 451 Seventh Street, SW., Washington, DC 20410; telephone (202) 708-0502 (this is not a toll-free number) or for legal questions Kenneth A. Markison, Assistant General Counsel for GSE/RESPA, or Steven J. Sacks or Teresa L. Baker (Senior RESPA Attorneys); Room 9262, telephone (202) 708-3137. Persons with hearing or speech impairments may access this number via TTY by calling the toll-free Federal Information Relay Service at (800) 877-8339. The address for the above listed persons is: Department of Housing and Urban Development, 451 Seventh Street, SW., Washington, DC 20410.

SUPPLEMENTARY INFORMATION: On December 9, 2002, over 60 Federal departments, agencies and commissions (collectively, Federal agencies) published, in the Federal Register, their respective agendas of regulations and regulatory plans. This compilation, referred to as the Unified Agenda, is published semiannually under the coordination of the Office of Management and Budget. The Unified Agenda provides for uniform reporting by Federal agencies of regulatory and deregulatory actions that are under development and expected to be issued within the next six to 12 months. In the fall, each Federal agency's semiannual agenda of regulations is accompanied by the agency's regulatory plan. The regulatory plan contains the Federal agency's most important significant regulatory actions that the agency expects to issue in the new fiscal year. Both documents provide the agencies' estimates of publication dates for their proposed and final rules. HUD's fall semiannual agenda of regulations and regulatory plan can be found in the December 9, 2002, Federal Register at 67 FR 74550 and 67 FR 74140, respectively.

HUD's regulatory plan advised that HUD's RESPA final rule would be published in January 2003. (See 67 FR 74147). This date is incorrect. HUD anticipates that its RESPA final rule will be published in the spring of 2003.

Dated: January 30, 2003.
John C. Weicher,
Assistant Secretary for Housing-Federal Housing Commissioner.

[FR Doc. 03-2973 Filed 2-6-03; 8:45 am]

BILLING CODE 4210-27-P